INTERNATIONAL TRADE COMMISSION

[USITC SE-18-058]

Sunshine Act Meetings

AGENCY HOLDING THE MEETING: United States International Trade Commission.

TIME AND DATE: December 14, 2018 at 11:00 a.m.

PLACE: Room 101, 500 E Street SW, Washington, DC 20436, Telephone: (202) 205-2000.

STATUS: Open to the public.

MATTER TO BE CONSIDERED:

1. Agendas for future meetings: None.

2. Minutes.

3. Ratification List.

4. Vote on Inv. Nos. 701-TA-598 and 600 and 731-TA-1408 and 1410 (Final) (Rubber Bands from China and Thailand). The Commission is currently scheduled to complete and file its determinations and views of the Commission by December 27, 2018.

5. Outstanding action jackets: None.

In accordance with Commission policy, subject matter listed above, not disposed of at the scheduled meeting, may be carried over to the agenda of the following meeting.

By order of the Commission.
Issued: November 26, 2018.
William Bishop,
Supervisory Hearings and Information Officer.

[FR Doc. 2018-26024 Filed 11-27-18; 11:15 am]

BILLING CODE 7020-02-P